DEPARTMENT OF HOMELAND SECURITY

Federal Emergency Management Agency

[Docket ID: FEMA-2010-0015]

Agency Information Collection Activities: Submission for OMB Review; Comment Request, OMB No. 1660-0086; National Flood Insurance Program—Mortgage Portfolio Protection Program (MPPP)

AGENCY: Federal Emergency Management Agency, DHS.

ACTION: Notice; 30-day notice and request for comments; revision of a currently approved information collection; OMB No. 1660-0086; No Form.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 13, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: National Flood Insurance Program—Mortgage Portfolio Protection Program (MPPP).

Type of Information Collection: Revision of a currently approved information collection.

OMB Number: 1660-0086.

Form Titles and Numbers: No Forms.

Abstract: A Write-Your-Own (WYO) Company that wishes to participate in the MPPP must review the information listed in the Mortgage Portfolio Protection Program Agreement and complete the acknowledgement either agreeing to participate in the MPPP or electing to continue under just the WYO guidelines. This acknowledgment is used to determine which WYO Companies will be writing insurance under the MPPP and which ones choose only to sell flood insurance through the regular WYO Program. A lender wishing to obtain flood insurance through an MPPP participating insurance company must review the Financial Assistance/Subsidy Arrangement and acknowledge the terms by signing the notice of acceptance provided with the Arrangement. This acceptance is used to verify that the lender understands the terms of the agreement so that they can properly apply for flood insurance.

Affected Public: Business or other for-profit.

Estimated Number of Respondents: 341.

Frequency of Response: Annually.

Estimated Average Hour Burden per Respondent: .5 Hours

Estimated Total Annual Burden Hours: 170.5 Hours.

Estimated Cost: There are no record keeping, capital, start-up or maintenance costs associated with this information collection.

Dated: July 7, 2010.
Tammi Hines,
Acting Director, Records Management Division, Mission Support Bureau, Federal Emergency Management Agency, Department of Homeland Security.

[FR Doc. 2010-17085 Filed 7-13-10; 8:45 am]

BILLING CODE 9110-11-P